DEPARTMENT OF HEALTH AND HUMAN SERVICES

Health Resources and Services Administration

Availability of Funds

AGENCY: Health Resources and Services Administration (HRSA).

ACTION: Extension of time for application deadline.

SUMMARY: This notice extends the time that applications will be accepted for fiscal year 2003 for the National Health Service Corps (NHSC) Loan Repayment Program. An August 9, 2002 Federal Register notice (67 FR 52049) announced that applications must be postmarked no later than March 28, 2003. The deadline for applications has been extended to April 18, 2003. Applications must be mailed to Division of National Health Service Corps, NHSC Loan Repayment Program, c/o I.Q. Solutions, 11300 Rockville Pike, Suite 801, Rockville, MD 20852, postmarked no later than April 18, 2003.

FOR FURTHER INFORMATION CONTACT: Kay Cook, National Health Service Corps, Bureau of Health Professions, Parklawn Building, Room 8A-55, 5600 Fishers Lane, Rockville, Maryland 20857 (301) 594-4400 (kcook@hrsa.gov)

Dated: April 8, 2003.
Elizabeth M. Duke,
Administrator.

[FR Doc. 03-8972 Filed 4-8-03; 4:07 pm]

BILLING CODE 4165-15-P